DEPARTMENT OF THE INTERIOR

National Park Service

[NPS-WASO-NRSS-EQD-SSB-NPS0028090; PPAKWEARS2, PPMPRLE1Z.LS0000 (200); OMB Control Number 1024-0262]

Agency Information Collection Activities; Submission to the Office of Management and Budget for Review and Approval; Community Harvest Assessments for Alaskan National Parks, Preserves, and Monuments

AGENCY: National Park Service, Interior.

ACTION: Notice of Information Collection; request for comment.

SUMMARY: In accordance with the Paperwork Reduction Act of 1995, we, the National Park Service (NPS) are proposing to renew an information collection with revisions.

DATES: Interested persons are invited to submit comments on or before March 2, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0262 in the subject line of your comments.

FOR FURTHER INFORMATION CONTACT: To request additional information about this ICR, contact Nicole Braem, Cultural Anthropologist, Bering Land Bridge National Preserve, Nome, AK 99762; or by email at nicole_braem@nps.gov; or by telephone at 907-443-6107. Please reference OMB Control Number 1024-0262 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On November 21, 2019 we published a Federal Register notice soliciting comments on this collection of information for 60 days, ending on January 21, 2020 (84 FR 64336). We received one comment via email, on January 21, 2020 from the State of Alaska ANILCA Implementation Program that represented the consolidated views of state resource agencies. No actions were required.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under the provisions of the Alaska National Interest Lands Conservation Act (ANILCA), qualified rural residents are provided the opportunity to harvest fish, wildlife, and other subsistence resources in national parks, preserves and monuments in Alaska. This collection gathers information on subsistence harvest patterns and the impact of rural economy from resident zone communities associated with Alaskan parks, preserves, and monuments. This information collection is authorized by the NPS Management Policies 2006, Section 8.11.1, which states that social science research will be used to provide an understanding of park visitors, the non-visiting public, gateway communities and regions, and human interactions with park resources. The NPS is seeking an extension to continue to survey Alaska residents who customarily and traditionally engage in subsistence activities within NPS units.

In 2012, a survey was conducted in Wrangell-St. Elias National Park and Preserve and Gates of the Arctic National Park and Preserve to understand the effects of subsistence harvesting. In 2017, this collection increased the scope of inquiry and was updated to include the following Alaskan National Parks, Preserves, and Monuments:

• Aniakchak National Monument (ANIA)

• Bering Land Bridge National Preserve (BELA)

• Cape Krusenstern National Monument (CAKR)

• Gates of the Arctic National Park and Preserve (GAAR)

• Kobuk Valley National Park (KOVA)

• Noatak National Preserve (NOAT)

• Wrangell-St. Elias National Park and Preserve (WRST)

• Yukon-Charley Rivers National Preserve (YUCH)

To conduct the surveys, a facilitator uses in-person interviews to collect information about harvests, uses, and sharing of subsistence resources. Search and harvest areas are also mapped over the course of the interview. At the end of the study, reports are provided to park managers, state and other federal agencies involved in management of subsistence resources, citizen advisory groups, and the surveyed communities describing levels and patterns of subsistence uses in these parks. Information from this collection is also used by the Federal Subsistence Board and the State of Alaska in making recommendations and decisions regarding seasons and harvest limits of fish, wildlife, and plants in the regions which communities have customarily and traditionally gathered resources.

Title of Collection: Community Harvest Assessments for Alaskan National Parks, Preserves, and Monuments.

OMB Control Number: 1024-0262.

Form Number: None.

Type of Review: Revision of a currently approved collection.

Respondent's Obligation: Voluntary.

Frequency of Collection: One-time.

Total Estimated Annual Nonhour Burden Cost: None.

Activity | Estimated annual respondents | Estimated annual responses | Average completion time per response (minutes) | Estimated annual burden hours *
Community Harvest Assessments | 1,389 | 1,389 | 60 | 1,389
Non-response Survey | 1,834 | 1,834 | 10 | 306
Totals: | 3,223 | 3,223 |  | 1,695
* Rounded

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2020-01802 Filed 1-30-20; 8:45 am]

BILLING CODE 4312-52-P